DEPARTMENT OF COMMERCE

National Oceanic and Atmospheric Administration

RIN 0648-XF71

U.S. Climate Change Science Program Synthesis and Assessment Product Draft Report 4.1: “Coastal Elevation and Sensitivity to Sea Level Rise”

AGENCY: National Oceanic and Atmospheric Administration (NOAA), Department of Commerce.

ACTION: Notice of availability and request for public comments.

SUMMARY: The National Oceanic and Atmospheric Administration publishes this notice to announce a 45-day public comment period for the draft document titled, U.S. Climate Change Science Program Synthesis and Assessment Product 4.1: “Coastal elevation and sensitivity to sea level rise.”

This draft document is being released solely for the purpose of pre-dissemination peer review under applicable information quality guidelines. This document has not been formally disseminated by NOAA. It does not represent and should not be construed to represent any Agency policy or determination. Any public comments submitted in accordance with this notice will be considered when revising the document.

DATES: Comments must be received by April 10, 2008.

ADDRESSES: The draft of Synthesis and Assessment Product 4.1: “Coastal elevation and sensitivity to sea level rise” is posted on the CCSP Web site at:

www.climatescience.gov/Library/sap/sap4-1/default.php

Detailed instructions for making comments on the draft Report is provided on the SAP 4.1 webpage. Comments MUST be prepared and submitted in accordance with these instructions.

FOR FURTHER INFORMATION CONTACT: Dr. Fabien Laurier, Climate Change Science Program Office, 1717 Pennsylvania Avenue NW, Suite 250, Washington, DC 20006, Telephone: (202) 419-3481.

SUPPLEMENTARY INFORMATION: The Climate Change Science Program (CCSP) was established by the President in 2002 to coordinate and integrate scientific research on global change and climate change sponsored by 13 participating departments and agencies of the U.S. Government. The CCSP is charged with preparing information resources that promote climate-related discussions and decisions, including scientific synthesis and assessment analyses that support evaluation of important policy issues. Synthesis and Assessment Product 4.1 analyzes information from the ongoing mapping efforts by federal and non-federal researchers related to the implications of rising sea level. The report will also develop a plan for sea level rise research to answer the questions that are most urgent for near-term decision-making. This report will provide information that supports the specific goal in Chapter 9 of the Strategic Plan for the Climate Change Science Program to analyze how coastal environmental programs can be improved to adapt to sea level rise while enhancing economic growth.

Dated: February 19, 2008.
William J. Brennan,
Deputy Assistant Secretary of Commerce for International Affairs, and Acting Director, Climate Change Science Program.

[FR Doc. E8-3513 Filed 2-22-08; 8:45 am]

BILLING CODE 3510-12-S